ENVIRONMENTAL PROTECTION AGENCY

[EPA-HQ-OPP-2015-0163; FRL-9944-95]

Amendments, Extensions, and/or Issuances of Experimental Use Permits

AGENCY: Environmental Protection Agency (EPA).

ACTION: Notice.

SUMMARY: EPA has granted amendments, extensions, and/or issuances of experimental use permits (EUPs) to the pesticide applicants described in Unit II of the SUPPLEMENTARY INFORMATION. An EUP permits use of a pesticide for experimental or research purposes only in accordance with the limitations in the permit.

FOR FURTHER INFORMATION CONTACT: Robert McNally, Biopesticides and Pollution Prevention Division (7511P), Office of Pesticide Programs, Environmental Protection Agency, 1200 Pennsylvania Ave. NW., Washington, DC 20460-0001; main telephone number: (703) 305-7090; email address: BPPDFRNotices@epa.gov.

SUPPLEMENTARY INFORMATION:

I. General Information

A. Does this action apply to me?

This action is directed to the public in general. Although this action may be of particular interest to those persons who conduct or sponsor research on pesticides, EPA has not attempted to describe all the specific entities that may be affected by this action.

B. How can I get copies of this document and other related information?

The dockets for these actions, identified by the docket identification (ID) numbers as shown in the body of this document, are available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. EUPs

EPA has issued the following EUPs:

1. 8917-EUP-2. (EPA-HQ-OPP-2015-0516). Amendment and Extension. J.R. Simplot Co., 5369 W. Irving St., Boise, ID 83706. This EUP allows the use of 13,000,000 pounds of seed potatoes containing 0.390 pound of VNT1 protein (or 3.90 × 10⁻¹ pound of VNT1 protein) on 5,576 acres (i.e., 5,200 Rpi-vnt1 plant-incorporated protectant (PIP) acres and 376 maximum border acres) to evaluate resistance to Phytophthora infestans (commonly known as late potato blight). The program is authorized only in the states of Arizona, California, Colorado, Florida, Hawaii, Idaho, Illinois, Indiana, Kansas, Maine, Michigan, Minnesota, Missouri, Nebraska, Nevada, New Mexico, New York, North Carolina, North Dakota, Oregon, Pennsylvania, South Carolina, Texas, Utah, Washington, and Wisconsin. The EUP is effective from December 17, 2015, to April 1, 2017.

2. 62719-EUP-66. (EPA-HQ-OPP-2014-0521). Amendment and Extension. Dow AgroSciences, LLC, 9330 Zionsville Rd., Indianapolis, IN 46268-1054. This EUP allows the use of 8.509 pounds of active ingredient (0.399, 0.120, 9.364 × 10⁻⁷, 0.448, 6.22, 0.152, and 1.17 pounds of Bacillus thuringiensis (Bt) Cry1A.105 protein, Bt Cry2Ab2 protein, DvSnf7 double-stranded RNA (dsRNA), Bt Cry1F protein, Bt Cry34Ab1 protein, Bt Cry35Ab1 protein, and Bt Cry3Bb1 protein, respectively) in 456,699 pounds of corn seed and involves 5,844 acres (i.e., 2,660 PIP acres, 1,312 non-PIP acres, and 1,872 border acres) for inbred and hybrid development, nursery observations, and testing and collection of product characterization data. The program is authorized only in the commonwealth of Puerto Rico and in the states of Arkansas, California, Georgia, Hawaii, Illinois, Indiana, Iowa, Kansas, Minnesota, Missouri, Nebraska, North Carolina, North Dakota, Ohio, Oklahoma, Pennsylvania, South Carolina, South Dakota, Texas, and Wisconsin. The EUP is effective from March 4, 2016, to March 31, 2017.

3. 88877-EUP-2. (EPA-HQ-OPP-2015-0374). Issuance. University of Kentucky, Department of Entomology, S-225 Agricultural Science Center North, Lexington, KY 40546-0091. This EUP allows the use of 2,400,000 male Aedes aegypti WB1 Strain mosquitoes weighing 5.672 ounces and containing 5.672 × 10⁻⁵ ounce of the active ingredient Wolbachia pipientis, wAlbB Strain to evaluate the active ingredient's effectiveness in suppressing and eliminating Aedes aegypti mosquitoes. The program is authorized only in the state of California over 840 acres (release and surveillance/monitoring acreage). The EUP is effective from October 15, 2015, to December 31, 2016. EPA received two comments, a positive one from the Consolidated Mosquito Abatement District in California and a negative one that was anonymous. As the anonymous commenter did not specify any particular safety concern with regard to this EUP's issuance, the comment was not considered further.

Authority: 7 U.S.C. 136 et seq.

Dated: April 18, 2016.
Robert C. McNally,
Director, Biopesticides and Pollution Prevention Division, Office of Pesticide Programs.

[FR Doc. 2016-09744 Filed 4-25-16; 8:45 am]

BILLING CODE 6560-50-P